DEPARTMENT OF AGRICULTURE

Forest Service

Sierra County, CA, Resource Advisory Committee

AGENCY: Forest Service, USDA.

ACTION: Notice of Meeting.

SUMMARY: The Sierra County Resource Advisory Committee (RAC) will meet on August 9, 2007, in Sierraville, California. The purpose of the meeting is to discuss issues relating to implementing the Secure Rural Schools and Community Self-Determination Act of 2000 (Payments to States) as extended by Public Law 110-28 and the expenditure of Title II funds benefiting National Forest System lands on the Humboldt-Toiyabe, Plumas and Tahoe National Forests in Sierra County.

DATES: The meeting will be held Thursday, August 9, 2007 at 10 a.m. (If there is a need to cancel this meeting, a back-up is scheduled for Monday, August 13, 2007 at the same time/location.)

ADDRESSES: The meeting will be held at the Downieville Community Hall, Downieville, CA.

FOR FURTHER INFORMATION CONTACT: Ann Westling, Committee Coordinator, USDA, Tahoe National Forest, 631 Coyote St., Nevada City, CA 95959, (530) 478-6205, e-mail: awestling@fs.fed.us.

SUPPLEMENTARY INFORMATION: Agenda items to be covered include: (1) Welcome and announcements; (2) status of previously approved projects; and (3) review of and decisions on new projects proposals for current year. The meeting is open to the public and the public will have an opportunity to comment at the meeting.

Dated: July 18, 2007.
Steven T. Eubanks,
Forest Supervisor.

[FR Doc. 07-3619 Filed 7-24-07; 8:45 am]

BILLING CODE 3410-11-M